DEPARTMENT OF ENERGY

Federal Energy Regulatory Commission

Combined Notice of Filings #1

Take notice that the Commission received the following electric rate filings:

Docket Numbers: ER10-1841-038; ER15-1925-030; ER15-2582-022; ER16-91-027; ER16-632-027; ER16-1672-030; ER16-2190-028; ER16-2191-028; ER16-2453-029; ER17-804-009; ER17-2152-025; ER18-1863-019; ER18-1978-018; ER15-2676-031; ER19-2461-021; ER19-2901-018; ER20-122-019; ER20-819-021; ER20-820-020; ER20-1769-016; ER20-1980-016; ER20-1987-020; ER20-2049-015; ER21-1519-011; ER21-1990-013; ER21-2674-011; ER22-2518-009; ER22-2634-012; ER23-71-007; ER23-568-011; ER22-2516-009; ER23-2107-009; ER23-2404-010; ER23-2694-009; ER23-2915-006; ER24-359-009; ER24-2791-004; ER25-1311-003; ER25-1312-001; ER25-1437-002; ER25-1961-003; ER25-1962-003; ER25-2291-001; ER25-2613-001; ER25-3121-002; ER25-3196-001; ER25-3239-001; ER25-3258-001; ER25-3259-001; ER25-3270-002; ER26-42-002; ER26-86-001; ER26-109-001.

Applicants: Chugwater Energy Center, LLC, Blackwell Wind I, LLC, Butler Ridge Wind, LLC, Corby Energy Storage, LLC, Carousel Wind IV, LLC, Carousel Wind III, LLC, Cimarron Wind, LLC, Cabokenze Energy Storage, LLC, Benton Solar, LLC, Buena Vista Energy Center III, LLC, Cherrywood Solar I, LLC, Century Oaks Energy Storage, LLC, Carousel Wind, LLC, Bronson Solar, LLC, Cedar Bluff Wind Energy, LLC, Breckinridge Wind, LLC, Breckinridge Energy Storage, LLC, Crow Creek Solar, LLC, Chesapeake Solar Project, LLC, Cereal City Solar, LLC, Bronco Plains Wind II, LLC, Clearwater Wind II, LLC, Chaves County Solar II, LLC, Big Cypress Solar, LLC, Buena Vista Energy Center, LLC, Buffalo Ridge Wind, LLC, Clearwater Wind I, LLC, Borderlands Wind, LLC, Blackwell Wind Energy, LLC, Cool Springs Solar, LLC, Cedar Springs Wind III, LLC, Cerro Gordo Wind, LLC, Cedar Springs Wind, LLC, Chicot Solar, LLC, Blythe Solar IV, LLC, Blythe Solar III, LLC, Crowned Ridge Interconnection, LLC, Bronco Plains Wind, LLC, Crowned Ridge Wind, LLC, Cedar Bluff Wind, LLC, Casa Mesa Wind, LLC, Coolidge Solar I, LLC, Cottonwood Wind Project, LLC, Coram California Development, L.P., Brady Interconnection, LLC, Brady Wind II, LLC, Brady Wind, LLC, Chaves County Solar, LLC, Blythe Solar II, LLC, Blythe Solar 110, LLC, Carousel Wind Farm, LLC, Breckinridge Wind Project, LLC, Butler Ridge Wind Energy Center, LLC.

Description: Notice of Change in Status of Adelanto Solar II, LLC, et al.

Filed Date: 11/3/25.

Accession Number: 20251103-5307.

Comment Date: 5 p.m. ET 11/24/25.

Docket Numbers: ER10-1849-038; ER10-1851-023; ER10-1852-120; ER10-1890-034; ER10-1899-026; ER10-1907-037; ER10-1918-038; ER10-1930-023; ER10-1931-024; ER10-1935-026; ER11-2160-034; ER13-1991-040; ER13-1992-040; ER13-752-025; ER10-1857-025; ER18-882-026; ER18-1534-018; ER19-987-025; ER19-1003-025; ER19-1393-025; ER19-1394-025; ER19-2269-014; ER19-2437-021; ER20-1986-015; ER21-1320-015; ER21-1682-010; ER21-1879-010; ER21-2118-015; ER21-2293-015; ER21-2296-014; ER22-381-020; ER22-2706-009; ER23-1541-009; ER23-1542-009; ER23-1543-009; ER23-2321-010; ER24-26-006; ER24-1289-006; ER24-2662-005; ER25-1338-004; ER25-1339-003; ER25-1438-006; ER25-1545-004; ER25-2210-003; ER25-2292-001; ER25-2504-001; ER25-2797-002; ER25-2970-001; ER25-3112-002; ER25-3119-002; ER25-3164-001; ER25-3198-001; ER25-3200-001; ER25-3248-001; ER25-3252-001; ER25-3271-004; ER25-3272-002; ER25-3273-002.

Applicants: Desert Sands Energy Center, LLC, Desert Sands Energy Storage II, LLC, Desert Sands Energy Storage I, LLC, Dry Falls Energy Center, LLC, Dry Land Prairie Energy Storage, LLC, Dothan Solar, LLC, Decatur Energy Storage, LLC, Eloy Valley Energy Center III, LLC, Emmons-Logan Energy Storage, LLC, Forest Trace Solar, LLC, Dusty Rose Wind, LLC, Dodge County Wind, LLC, Dry Lake East Energy Center, LLC, Excelsior Energy Center, LLC, Delta Bobcat Solar, LLC, DG VDH BESS, LLC, Dominguez Grid, LLC, Forgeview Solar, LLC, Flat Fork Solar, LLC, Duane Arnold Solar II, LLC, Decatur Solar Energy Center, LLC, East Point Energy Center, LLC, Dunns Bridge Energy Storage, LLC, Desert Peak Energy Storage II, LLC, Desert Peak Energy Storage I, LLC, Desert Peak Energy Center, LLC, Eight Point Wind, LLC, Dunns Bridge Solar Center, LLC, Ensign Wind Energy, LLC, Fish Springs Ranch Solar, LLC, Dodge Flat Solar, LLC, Farmington Solar, LLC, Elora Solar, LLC, Crystal Lake Wind Energy III, LLC, Day County Wind I, LLC, Emmons-Logan Wind, LLC, Dougherty County Solar, LLC, Endeavor Wind II, LLC, Endeavor Wind I, LLC, Crystal Lake Wind Energy II, LLC, Crystal Lake Wind Energy I, LLC, East Hampton Energy Storage Center, LLC, Elk City Renewables II, LLC, FPL Energy Cape, LLC, Energy Storage Holdings, LLC, Desert Sunlight 300, LLC, Desert Sunlight 250, LLC, FPL Energy Montezuma Wind, LLC, FPL Energy Wyman IV, LLC, FPL Energy Vansycle, L.L.C., FPL Energy Stateline II, Inc., FPL Energy North Dakota Wind II, LLC, FPL Energy North Dakota Wind, LLC, FPL Energy Illinois Wind, LLC, FPL Energy Green Power Wind, LLC, Florida Power & Light Company, ESI Vansycle Partners, L.P., Elk City Wind, LLC.

Description: Notice of Change in Status of Adelanto Solar II, LLC, et al.

Filed Date: 11/3/25.

Accession Number: 20251103-5308.

Comment Date: 5 p.m. ET 11/24/25.

Docket Numbers: ER15-1418-028; ER10-2005-038; ER15-1883-028; ER10-2005-039; ER18-2118-024; ER19-1073-018; ER20-2179-016; ER21-2294-017; ER21-2304-016; ER22-415-015; ER23-883-007; ER24-817-008; ER25-704-004; ER25-1744-003; ER25-2414-001; ER25-3111-002; ER25-3195-001; ER26-8-001; ER26-85-001.

Applicants: Armadillo Flats Wind Energy, LLC, Anticline Energy Storage, LLC, Amber Meadow Solar, LLC, Amite Energy Storage, LLC, Beaver Creek Solar, LLC, Appleseed Solar, LLC, Amite Solar, LLC, Babbitt Ranch Energy Center, LLC, Bell Ridge Solar, LLC, Arlington Energy Center III, LLC, Arlington Solar, LLC, Arlington Energy Center II, LLC, Baldwin Wind Energy, LLC, Alta Wind VIII, LLC, Armadillo Flats Wind Project, LLC, Adelanto Solar, LLC, Ashtabula Wind II, LLC, Adelanto Solar II, LLC.

Description: Notice of Change in Status of Adelanto Solar II, LLC, et al.

Filed Date: 10/31/25.

Accession Number: 20251031-5417.

Comment Date: 5 p.m. ET 11/21/25.

Docket Numbers: ER26-479-000.

Applicants: AEP Oklahoma Transmission Company, Inc.

Description: § 205(d) Rate Filing: AEPOTC-Kiowa County Project (Great Plains) Interim Maintenance Agreement to be effective 11/1/2025.

Filed Date: 11/10/25.

Accession Number: 20251110-5207.

Comment Date: 5 p.m. ET 12/1/25.

Docket Numbers: ER26-480-000.

Applicants: Duke Energy Florida, LLC.

Description: § 205(d) Rate Filing: DEF-FPL ASSA SA No. 505 to be effective 11/12/2025.

Filed Date: 11/12/25.

Accession Number: 20251112-5031.

Comment Date: 5 p.m. ET 12/3/25.

Docket Numbers: ER26-481-000.

Applicants: Atlas VIII, LLC.

Description: Initial Rate Filing: Atlas VIII, LLC submits tariff filing per 35.12: Application for Market Based Rate to be effective 11/13/2025.

Filed Date: 11/12/25.

Accession Number: 20251112-5081.

Comment Date: 5 p.m. ET 12/3/25.

Docket Numbers: ER26-482-000.

Applicants: PJM Interconnection, L.L.C.

Description: § 205(d) Rate Filing: PJM Interconnection, L.L.C. submits tariff filing per 35.13(a)(2)(iii: Amendment to ISA SA No. 2775; Queue No. AB2-092 to be effective 1/12/2026.

Filed Date: 11/12/25.

Accession Number: 20251112-5134.

Comment Date: 5 p.m. ET 12/3/25.

Docket Numbers: ER26-485-000.

Applicants: PJM Interconnection, L.L.C.

Description: § 205(d) Rate Filing: Notice of Cancellation of GIA, SA No. 7460; Project Identifier No. AGI-482 to be effective 1/12/2026.

Filed Date: 11/12/25.

Accession Number: 20251112-5204.

Comment Date: 5 p.m. ET 12/3/25.

Docket Numbers: ER26-486-000.

Applicants: PJM Interconnection, L.L.C.

Description: § 205(d) Rate Filing: Amendment to ISA, SA No. 6710; Queue No. AE2-027 to be effective 1/12/2026.

Filed Date: 11/12/25.

Accession Number: 20251112-5207.

Comment Date: 5 p.m. ET 12/3/25.

The filings are accessible in the Commission's eLibrary system (https://elibrary.ferc.gov/idmws/search/fercgensearch.asp) by querying the docket number. Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding. eFiling is encouraged. More detailed information relating to filing requirements, interventions, protests, service, and qualifying facilities filings can be found at: http://www.ferc.gov/docs-filing/efiling/filing-req.pdf. For other information, call (866) 208-3676 (toll free). For TTY, call (202) 502-8659. The Commission's Office of Public Participation (OPP) supports meaningful public engagement and participation in Commission proceedings. OPP can help members of the public, including landowners, community organizations, Tribal members and others, access publicly available information and navigate Commission processes.

For public inquiries and assistance with making filings such as interventions, comments, or requests for rehearing, the public is encouraged to contact OPP at (202) 502-6595 or OPP@ferc.gov.

Dated: November 12, 2025.
Carlos D. Clay,
Deputy Secretary.

[FR Doc. 2025-19949 Filed 11-14-25; 8:45 am]

BILLING CODE 6717-01-P